DEPARTMENT OF TRANSPORTATION

Research and Special Programs Administration

Office of Hazardous Materials Safety; Notice of Applications for Modification of Exemption

AGENCY: Research and Special Programs Administration, DOT.

ACTION: List of applications for modification of exemptions.

SUMMARY: In accordance with the procedures governing the application for, and the processing of, exemptions from the Department of Transportation's Hazardous Materials Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modifications of exemptions (e.g. to provide for additional hazardous materials, packaging design changes, additional mode of transportation, etc.) are described in footnotes to the application number. Application numbers with the suffix “M” denote a modification request. These applications have been separated from the new applications for exemptions to facilitate processing.

DATES: Comments must be received on or before February 18, 2000.

ADDRESS COMMENTS TO: Records Center, Research and Special Programs Administration U.S. Department of Transportation Washington, DC 20590

Comments should refer to the application number and be submitted in triplicate. If confirmation of receipt of comments is desired, include a self-addressed stamped postcard showing the exemption number.

FOR FURTHER INFORMATION: Copies of the applications are available for inspection in the Records Center, Nassif Building, 400 7th Street SW, Washington, DC or at http://dms.dot.gov.

This notice of receipt of applications for modification of exemptions is published in accordance with Part 107 of the Federal hazardous materials transportation law (49 U.S.C. 5117(b); 49 CFR 1.53(b)).

Issued in Washington, DC, on January 24, 2000.
J. Suzanne Hedgepeth,
Director, Office of Hazardous Material, Exemptions and Approvals.

Application No. | Docket No. | Applicant | Modification of exemption
9847-M |  | FIBA Technologies, Inc., Westboro, MA ¹ | 9847
10704-M |  | Puritan-Bennett Medical Gases (Mallinckrodt, Inc.) Overland Park, KS ² | 10704
11296-M |  | Heritage Transport, LLC, Indianapolis, IN ³ | 11296
11344-M |  | DuPont SHE Excellence Center, Wilmington, DE ⁴ | 11344
11722-M |  | CITERGAS, S.A., Civray, FR ⁵ | 11722
11769-M |  | Hydrite Chemical Company, Brookfield, WI ⁶ | 11769
11777-M |  | Audoliv ASP, Inc., Ogden, UT ⁷ | 11777
¹ To modify the exemption to eliminate the requirement for an initial qualifying test; to allow for Division 2.3 materials; correct language in paragraphs 7a. thru e. of the exemption.
² To modify the exemption to allow for calibration and functional checks of medical analyzers or monitors; lower minimum burst pressure to 340 psig.
³ To modify the exemption to authorize additional UN standard packaging at the Packing Group II performance level for use as overpacks for waste aerosol cans.
⁴ To modify the exemption to allow for the transportation of an additional Class 8 material in tank cars.
⁵ To modify the exemption to permit new construction of the non-DOT specification spherical pressure vessels and additions to the product list.
⁶ To modify the exemption to allow for the discharge for an additional Class 8 material in UN Intermediate Bulk Containers (IBC) without removing the IBC from the motor vehicle.
⁷ To modify the exemption to authorize a design change to allow for side wall attachment studs on a non-DOT specification pressure vessel.

Note: Correction to FR Vol. 64, No. 245, page 71847. “Modification of Exemptions” Footnote 8 for 12263-M (Orbital Sciences Corporation RSPA-1999-5597) should have read “To reissue the exemption originally issued on an emergency basis and modify it to include various version of the device and the scope of its operations” and Footnote 9 for 12376-M (BBI—Biotech Research Laboratories, Inc. RSPA-1999-6573) should have read ‘To reissue the exemption originally issued on an emergency basis to move freezers containing specimen collections in novel drum and vaccine therapies.” version of the device and the scope of its operations”.

[FR Doc. 00-02361 Filed 2-2-00; 8:45 am]

BILLING CODE 4910-60-M